DEPARTMENT OF EDUCATION

[Docket No. ED-2013-ICCD-0043]

Agency Information Collection Activities; Comment Request; Applications for Assistance Section 8002 Impact Aid Program

AGENCY: Department of Education (ED), Office of Elementary and Secondary Education (OESE).

ACTION: Notice.

SUMMARY: In accordance with the Paperwork Reduction of 1995 (44 U.S.C. Chapter 3507(j)), ED is requesting the Office of Management and Budget (OMB) to conduct an emergency review of a revision to an existing information collection.

DATES: Approval by the OMB has been requested by April 5, 2013. A regular clearance process is also hereby being initiated. Interested persons are invited to submit comments on or before June 10, 2013.

ADDRESSES: Comments submitted in response to this notice should be submitted electronically through the Federal eRulemaking Portal at http://www.regulations.gov by selecting Docket ID number ED-2013-ICCD-0043 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E115, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Applications for Assistance Section 8002 Impact Aid Program.

OMB Control Number: 1810-0036.

Type of Review: a revision to an existing information collection.

Respondents/Affected Public: State, Local and Tribal Governments.

Total Estimated Number of Annual Responses: 250.

Total Estimated Number of Annual Burden Hours: 1,125.

Abstract: The U.S. Department of Education is requesting an emergency clearance for a revision of the Application for Assistance under Section 8002 of Title VIII of the Elementary and Secondary Education Act. This application is for a grant program otherwise known as Impact Aid Payments for Federal Property. Local Educational Agencies (LEAs) that have lost taxable property due to Federal activities request financial assistance by completing an annual application. Regulations for Section 8002 of the Impact Aid Program are found at 34 CFR part 222, Subpart B; however, a change to the funding formula contained in Section 563 of the National Defense Appropriation Act for FY 2013 supersedes many of these regulations.

This expedited collection is a direct result of a statutory change included in Section 563 of the National Defense Appropriation Act of FY 2013 (Pub. L. 112-239, January 2, 2013). The revised statute simplifies the funding formula, and therefore decreases the data collection burden for Section 8002 applicants, with the goal of enabling the Department to make payments to LEAs more quickly. However, because the statutory change is retroactive to include payments for FY 2010, the Impact Aid Program (IAP) must recalculate its payments to all eligible LEAs for FYs 2010-2013. The applications previously submitted for those fiscal years' funds contain only part of the data required under the new formula. In order to collect the new data required by the formula, IAP requests approval of revised versions of Tables 3 and 4 of the application. For the FY 2014 grant application, LEAs have not yet submitted applications, thus IAP must collect all data needed under the new formula with a revised application package. The FY 2014 application package requires fewer data elements overall than the previous application.

Dated: April 4, 2013.
Tomakie Washington,
Acting Director, Information Collection Clearance Division, Privacy, Information and Records Management Services, Office of Management.

[FR Doc. 2013-08237 Filed 4-8-13; 8:45 am]

BILLING CODE 4000-01-P